DEPARTMENT OF JUSTICE

Notice of Lodging of Consent Decree Pursuant to the Comprehensive Environmental Response Compensation and Liability Act (“CERCLA”)

Notice is hereby given that a proposed consent decree in United States versus Estate of Joseph Savage and Four Acres of Land, More or Less, Located at 10 Brewster Street, Bridgeport, Connecticut, No. 302-CV-2256-CFD was lodged with the United States District Court for the District of Connecticut on December 19, 2002 (the “Consent Decree”). The Consent Decree will resolve the liability of the Estate of Joseph Savage (“the Estate”) to the United States, on behalf of the United States Environmental Protection Agency, under section 107(a) of the Comprehensive Environmental Response, Compensation, and Liability Act, as amended (“CERCLA”), 42 U.S.C. 9607, for the recovery of costs incurred by the United States in connection with the Black Rock Shipyard Superfund Site (“the Site”), located at 10 Brewster Street, Bridgeport, Connecticut. The Consent Decree requires the Estate to use its best efforts to sell the property comprising the Site, which is property of the Estate, and to pay the proceeds of such EPA-approved sale to reimburse the United States for its past costs incurred at the Site, which are secured by a statutory lien on the Site property pursuant to section 107(l) of CERCLA, 42 U.S.C. 9607(l).

The Department of Justice will receive, for a period of 30 days from the date of this publication, comments relating to the proposed Consent Decree. Comments should be addressed to the Assistant Attorney General, Environment and Natural Resources Division, P.O. Box 7611, U.S. Department of Justice, Washington, DC 20044-7611, and/or, to ensure timely delivery, via overnight delivery to Chief, Environmental Enforcement Section, 1425 New York Av. NW, 13th Fl., Washington, DC 20005. Each communication should refer on its face to United States versus Estate of Joseph Savage and Four Acres of Land, More or Less, DOJ Ref. # 90-11-3-07373.

The proposed Consent Decree may be examined at the Office of the United States Attorney for the District of Connecticut, 157 Church St., 23rd Fl., New Haven, Connecticut 06510 (contact Assistant U.S. Attorney John Hughes), and the Region 1 Office of the Environmental Protection Agency, 1 Congress St., Suite 1100, Boston, Massachusetts 02114 (contact Senior Enforcement Counsel Lloyd Selbst). A copy of the proposed Consent Decree may be obtained by mail from the Consent Decree Library, P.O. Box 7611, Washington, DC 20044-7611 or by faxing a request to Tonia Fleetwood, fax no. (202) 514-0097, phone confirmation number (202) 514-1547. In requesting a copy, please refer to United States versus Estate of Joseph Savage and Four Acres of Land, More or Less, DOJ Ref. # 90-11-3-07373 and enclose a check in the amount of $3.75 (15 pages @ 25 cents per page reproduction costs) for the Consent Decree, payable to the U.S. Treasury.

Ronald Gluck,
Assistant Section Chief, Environmental Enforcement Section, Environment and Natural Resources Division.

[FR Doc. 03-896 Filed 1-15-03; 8:45 am]

BILLING CODE 4410-15-M